DEPARTMENT OF ENERGY

Federal Energy Regulatory Commission

18 CFR Part 284

[Docket No. RM14-2-000]

Coordination of the Scheduling Processes of Interstate Natural Gas Pipelines and Public Utilities

AGENCY: Federal Energy Regulatory Commission, DOE.

ACTION: Notice of proposed rulemaking; notice of extension of time.

SUMMARY: On December 12, 2014, pursuant to authority delegated to the Director, Office of Energy Policy and Innovation, a data request was issued to each ISO and RTO regarding the effect on the reliable and efficient operations of natural gas-fired generators of the current 9 a.m. CCT start to the Gas Day. The requests seek data from the ISOs/RTOs with respect to derates by natural gas generators during the morning ramp period. This notice extends the deadline to submit answers in response to these data requests.

DATES: Responses to the data request must be filed on or before January 22, 2015 in Docket No. RM14-2-000. Comments on the responses to the data request must be filed in the same docket within 10 days of the data request response, on or before February 2, 2015.

ADDRESSES: Responses and Comments, identified by docket number, may be filed in the following ways:

• Electronic Filing through http://www.ferc.gov. Documents created electronically using word processing software should be filed in native applications or print-to-PDF format and not in a scanned format.

• Mail/Hand Delivery: Those unable to file electronically may mail or hand-deliver comments to: Federal Energy Regulatory Commission, Secretary of the Commission, 888 First Street NE., Washington, DC 20426.

Instructions: For detailed instructions on submitting responses and comments, see the SUPPLEMENTARY INFORMATION section of this document.

FOR FURTHER INFORMATION CONTACT: Anna Fernandez (Legal Information), Federal Energy Regulatory Commission, Office of the General Counsel, 888 First Street NE., Washington, DC 20426, 202-502-6682.

Caroline Daly Wozniak (Technical Information), Federal Energy Regulatory Commission, Office of Energy Policy and Innovation, 888 First Street NE., Washington, DC 20426, 202-502-8931.

SUPPLEMENTARY INFORMATION: On January 5, 2015, the ISO/RTO Council (IRC) filed a motion requesting a 10-day extension of time (motion) until January 22, 2015 to submit answers to the data requests issued on December 12, 2014, as requested by the Office of Energy Policy and Innovation, in the above-referenced proceeding.¹ In its motion, IRC states that the additional time is needed due to the amount of source data required to review, the intervening holidays, and other intervening data response commitments.

¹ Letters requesting a response to the data requests under RM14-2-000 were issued to the following ISOs and RTOs: ISO New England, New York Independent System Operator, Inc., California Independent System Operator, Southwest Power Pool, Inc., PJM Interconnection, L.L.C., and Midcontinent Independent System Operator, Inc.

Upon consideration, notice is hereby given to all parties that IRC's motion is granted, extending the deadline to submit answers to and including January 22, 2015; and to submit comments in response to those answers, to and including February 2, 2015.

Dated: January 7, 2015.
Kimberly D. Bose,
Secretary.

[FR Doc. 2015-00263 Filed 1-9-15; 8:45 am]

BILLING CODE 6717-01-P